DEPARTMENT OF TRANSPORTATION

National Highway Traffic Safety Administration

49 CFR Part 571

RIN: 2127-AH80

Federal Motor Vehicle Safety Standards; Low Speed Vehicles

AGENCY: National Highway Traffic Safety Administration (NHTSA), DOT.

ACTION: Termination of rulemaking.

SUMMARY: The purpose of this document is to announce the termination of a rulemaking in which the agency had considered establishing performance criteria and tests for the existing requirements for low speed vehicles. After considering the amount of additional research that is still needed before the necessary criteria and tests can be finalized and proposed for public comment, and the absence of data showing a safety problem with current safety equipment, the agency has decided to terminate the rulemaking. The agency may pursue future research relative to low speed vehicles (LSV) as funding and priorities permit.

FOR FURTHER INFORMATION CONTACT: For non-legal issues, contact Mr. William D. Evans, Office of Crash Avoidance Standards, phone (202) 366-2272. For legal issues, contact Christopher Calamita, Office of Chief Council, phone (202) 366-2992. You may send mail to both of these officials at the National Highway Traffic Safety Administration, 400 Seventh Street, SW., Washington, DC 20590.

SUPPLEMENTARY INFORMATION:

I. Background

On June 17, 1998, NHTSA published a final rule establishing Federal Motor Vehicle Safety Standard (FMVSS) No. 500, “Low-speed vehicles,” and added a definition of “low-speed vehicle” to 49 CFR 571.3 (63 FR 33194). This new FMVSS and vehicle classification responded to the growing public interest in using golf cars and other similarly sized small vehicles to make short trips for shopping and social/recreational purposes primarily within retirement or other self-contained communities. An LSV is defined in 49 CFR 571.3 as a 4-wheeled motor vehicle, other than a truck, whose speed attainable in 1.6 km (1 mile) is more than 32 kilometers per hour (20 mph) and not more than 40 kilometers per hour (25 mph) on a paved level surface¹. Due to their small size, low operating speed and restricted area of use, LSVs are exempt from many of the FMVSSs that apply to conventional, higher speed motor vehicles. LSVs are not required to have doors or bumpers and are not required to meet any crashworthiness tests. However, FMVSS No. 500 does require LSVs certified for use on public roads to be equipped with certain safety equipment: headlamps, front and rear turn signal lamps, tail lamps, stop lamps, reflex reflectors, rearview mirrors, a parking brake, a windshield and a Type 1 or Type 2 seat belt assembly at each seating position. The standard currently does not contain performance criteria and test procedures for the safety equipment installed other than the following:

¹ In a separate rulemaking proceeding, NHTSA is considering possible amendments to this definition to allow certain trucks to be classified as LSVs (68 FR 68319).

• A windshield that conforms to the FMVSS on glazing materials (49 CFR 571.205).

• A Vehicle Identification Number (VIN) that conforms to the requirements of 49 CFR part 565, Vehicle Identification Number.

• A Type 1 or Type 2 seat belt assembly conforming to 49 CFR 571.209, Seat belt assemblies, installed at each designated seating position.

NHTSA received Petitions for Reconsideration to the Final Rule from the Connecticut Department of Motor Vehicles, the Florida Department of Highway Safety and Motor Vehicles, and the American Association of Motor Vehicle Administrators (AAMVA). These organizations requested that NHTSA establish performance criteria and tests for the safety equipment required by FMVSS No. 500. NHTSA recognized that a requirement for LSVs to be equipped with an item of equipment without specifying its performance could result in the introduction of LSVs by different manufacturers whose safety equipment would not perform in an identical manner. NHTSA also recognized that allowing a manufacturer total freedom of choice regarding the performance of equipment might result in the installation of equipment that did not provide an adequate level of safety. NHTSA considered the Petitions for Reconsideration from Connecticut, Florida and AAMVA to be Petitions for Rulemaking and granted them in 2000.

II. Decision To Withdraw Rulemaking

NHTSA initiated a research plan in an effort to develop performance requirements for LSVs. Some research testing has been performed on LSVs relative to the safety equipment currently required by FMVSS No. 500. In addition, other equipment such as service brakes and seat belt assembly anchorages have been examined and tested. NHTSA still has further research and testing to complete on lighting photometric requirements, seat belt anchorages and service brakes. Research and testing has verified that LSVs are equipped with a variety of safety equipment with various performance characteristics. Some systems and equipment that vary widely in performance characteristics are lighting and service brake systems. However, due to the lack of crash data on LSVs it is difficult to determine the safety consequences of these variations in system performance. Searches in NHTSA's Fatal Analysis Reporting System (FARS) and the National Automotive Sampling System (NASS) have not provided any crash data involving LSVs. This may reflect police reporting practices that do not recognize LSVs as motor vehicles. After considering the amount of additional research that is still needed before the necessary performance criteria and test procedures could be finalized and proposed for public comment, and the absence of data showing a safety problem with current safety equipment, the agency has decided to terminate the rulemaking. The agency may pursue future research relative to LSVs as funding and priorities permit.

Issued on: October 7, 2004.
Stephen R. Kratzke,
Associate Administrator for Rulemaking.

[FR Doc. 04-23077 Filed 10-15-04; 8:45 am]

BILLING CODE 4910-59-P